DEPARTMENT OF TRANSPORTATION

Federal Aviation Administration

14 CFR Part 39

[Docket No. FAA-2017-0127; Directorate Identifier 2016-NM-161-AD]

RIN 2120-AA64

Airworthiness Directives; The Boeing Company Airplanes

AGENCY: Federal Aviation Administration (FAA), DOT.

ACTION: Notice of proposed rulemaking (NPRM).

SUMMARY: We propose to adopt a new airworthiness directive (AD) for all The Boeing Company Model 737-600, -700, -700C, -800, -900, and -900ER series airplanes; Model 757 airplanes; and Model 767 airplanes. This proposed AD was prompted by reports of latently failed motor operated valve (MOV) actuators of the fuel shutoff valves. This proposed AD would require replacing certain MOV actuators of the fuel shutoff valves for the left and right engines (all airplanes) and of the auxiliary power unit (APU) fuel shutoff valve (Model 757 and Model 767 airplanes); and revising the maintenance or inspection program, as applicable, to incorporate certain airworthiness limitations (AWLs). We are proposing this AD to address the unsafe condition on these products.

DATES: We must receive comments on this proposed AD by April 24, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Boeing Commercial Airplanes, Attention: Contractual & Data Services (C&DS), 2600 Westminster Blvd., MC 110-SK57, Seal Beach, CA 90740-5600; telephone: 562-797-1717; Internet: https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2017-0127.

Examining the AD Docket

You may examine the AD docket on the Internet at http://www.regulations.gov by searching for and locating Docket No. FAA-2017-0127; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Tak Kobayashi, Aerospace Engineer, Propulsion Branch, ANM-140S, FAA, Seattle Aircraft Certification Office (ACO), 1601 Lind Avenue SW., Renton, WA 98057-3356; phone: 425-917-6499; fax: 425-917-6590; email: Takahisa.Kobayashi@faa.gov.

SUPPLEMENTARY INFORMATION:

Comments Invited

We invite you to send any written relevant data, views, or arguments about this proposal. Send your comments to an address listed under the ADDRESSES section. Include “Docket No. FAA-2017-0127; Directorate Identifier 2016-NM-161-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received reports of latently failed MOV actuators of the fuel shutoff valves, due to the design of the valve actuator, discovered during fuel filter or engine replacement. The MOV actuator failed to close the valve when commanded and failed to indicate the failure to close the valve. Certain component failure modes within the MOV actuator could result in simultaneous loss of valve control and indication. A latent failure of the MOV actuator for the engine or APU fuel shutoff valve could result in the inability to shut off fuel to the engine or the APU, and in case of certain engine or APU fires, could result in structural failure.

Related ADs

We recognize there are requirements in AD 2008-06-03, Amendment 39-15415 (73 FR 13081, March 12, 2008), and AD 2009-22-13, Amendment 39-16066 (74 FR 55755, October 29, 2009), that might appear to conflict with the requirements of this proposed AD. However, alternative methods of compliance (AMOCs) have already been issued for those ADs to allow installation of the MOV actuators that are required for compliance with this proposed AD. Those AMOCs preclude any potential conflicts between ADs. No new AMOC is needed for this proposed AD regarding this issue.

AD 2015-21-09, Amendment 39-18302 (80 FR 65121, October 26, 2015) (“AD 2015-21-09”), which applies to Model 767 airplanes, was prompted by reports of latently failed MOV actuators of the fuel shutoff valves discovered during fuel filter replacement. AD 2015-21-09 requires revising the maintenance or inspection program to include new AWLs.

AD 2015-19-04, Amendment 39-18267 (80 FR 55505, September 16, 2015), which applies to Model 757 airplanes was prompted by reports of latently failed MOV actuators of the fuel shutoff valves discovered during fuel filter replacement. This AD requires revising the maintenance or inspection program to include new AWLs.

AD 2015-21-10, Amendment 39-18303 (80 FR 65130, October 26, 2015), which applies to Model 737-600, -700, -700C, -800, -900, and -900ER series airplanes was prompted by reports of latently failed MOV actuators of the fuel shutoff valves discovered during fuel filter replacement. This AD requires revising the maintenance or inspection program to include a new AWL.

AD 2016-04-20, Amendment 39-18414 (81 FR 10460, March 1, 2016) (“AD 2016-04-20”), which applies to Model 737-600, -700, -700C, -800, -900, and -900ER series airplanes, Model 757 airplanes, Model 767 airplanes, and Model 777 airplanes, resulted from fuel system reviews conducted by the manufacturer. This AD requires an inspection to determine if certain MOV actuators for the fuel tanks or fuel feed system are installed on the airplane, and replacement of any affected actuators.

Airworthiness Limitations Based on Type Design

The FAA recently became aware of an issue related to the applicability of ADs that require incorporation of the Airworthiness Limitations section (ALS) of the Instructions for Continued Airworthiness (ICA) into an operator's maintenance or inspection program.

U.S. operators must operate their airplanes in an airworthy condition, in accordance with 14 CFR 91.7(a). Included in this obligation is the requirement to perform any maintenance or inspections specified in the ALS, and in accordance with the ALS as specified in 14 CFR 43.16 and 91.403(c), unless an alternative has been approved by the FAA.

When a type certificate is issued for a type design, the specific ALS, including its revision level, is part of that type design, as specified in 14 CFR 21.31(c).

The sum effect of these operational and maintenance requirements is an obligation to comply with the ALS revision defined in the type design referenced in the manufacturer's conformity statement. This obligation may introduce a conflict with an AD if the AD requires a specific ALS revision for new airplanes that are delivered with a later ALS revision as part of their type design.

The FAA has approved AMOCs that allow operators to incorporate the most recent ALS revision into their maintenance/inspection programs, in lieu of the ALS revision required by the AD. This enables the operator to comply with both the AD and the type design.

However, compliance with AMOCs is normally optional, and we recently became aware that some operators choose to retain the AD-mandated ALS revision in their fleet-wide maintenance/inspection programs, including those for new airplanes delivered with later ALS revisions, to help standardize the maintenance of the fleet. To ensure that operators comply with the applicable ALS revision for newly delivered airplanes containing a later revision than that specified in an AD, we plan to mandate the latest ALS revision as of the effective date of an AD, if we are to mandate a specific ALS revision, and limit the applicability of such AD actions to those airplanes to which the latest or earlier ALS revisions are applicable as of the effective date of that AD.

This proposed AD therefore mandates the latest ALS revision as of the effective date of the AD for Model 737-600, -700, -700C, -800, -900, and -900ER series airplanes, Model 757 airplanes, and Model 767 airplanes with an original certificate of airworthiness or original export certificate of airworthiness that was issued on or before the effective date of this proposed AD. Operators of airplanes with an original certificate of airworthiness or original export certificate of airworthiness issued after that date must comply with the airworthiness limitations specified as part of the approved type design.

Related Service Information Under 1 CFR Part 51

We reviewed the following service information.

• Boeing Service Bulletin 737-28-1314, dated November 17, 2014. This service information describes procedures for installing new MOV actuators of the fuel shutoff valves for the left and right engines. This document is distinct since it applies to Model 737-600, -700, -700C, -800, -900, and -900ER series airplanes and describes installing new MOV actuators.

• Boeing 737-600/700/700C/800/900/900ER Special Compliance Items/Airworthiness Limitations, D626A001-9-04, dated September 2016. This service information describes AWLs for fuel tank ignition prevention. This document is distinct since it applies to Model 737-600, -700, -700C, -800, -900, and -900ER series airplanes and describes AWLs.

• Boeing Special Attention Service Bulletin 757-28-0138, dated May 18, 2016. This service information describes procedures for installing new MOV actuators of the fuel shutoff valves for the left and right engines, and of the APU fuel shutoff valve. This document is distinct since it applies to Model 757 airplanes and describes installing new MOV actuators.

• Boeing 757 Maintenance Planning Data (MPD) Document, Section 9, Airworthiness Limitations (AWLs) And Certification Maintenance Requirements (CMRs), D622N001-9, dated July 2016. This service information describes AWLs for fuel tank ignition prevention. This document is distinct since it applies to Model 757 airplanes and describes AWLs.

• Boeing Service Bulletin 767-28-0115, Revision 1, dated June 2, 2016. This service information describes procedures for installing new MOV actuators of the fuel shutoff valves for the left and right engines, and of the APU fuel shutoff valve. This document is distinct since it applies to Model 767 airplanes and describes installing new MOV actuators.

• Boeing 767 Special Compliance Items/Airworthiness Limitations, D622T001-9-04, dated June 2016. This service information describes AWLs for fuel tank ignition prevention. This document is distinct since it applies to Model 767 airplanes and describes AWLs.

This service information is reasonably available because the interested parties have access to it through their normal course of business or by the means identified in the ADDRESSES section.

FAA's Determination

We are proposing this AD because we evaluated all the relevant information and determined the unsafe condition described previously is likely to exist or develop in other products of these same type designs.

Proposed AD Requirements

This proposed AD would require accomplishing the actions specified in the service information described previously, except as discussed under “Differences Between this Proposed AD and the Service Information.” For information on the procedures and compliance times, see this service information at http://www.regulations.gov by searching for and locating Docket No. FAA-2017-0127.

This proposed AD also requires revisions to certain operator maintenance documents to include new actions (e.g., inspections) and Critical Design Configuration Control Limitations (CDCCLs) described in the ALS of the ICA. Compliance with these actions and CDCCLs is required by 14 CFR 91.403(c). For airplanes that have been previously modified, altered, or repaired in the areas addressed by this proposed AD, the operator may not be able to accomplish the actions described in the revisions. In this situation, to comply with 14 CFR 91.403(c), the operator must request approval of an AMOC according to paragraph (l) of this proposed AD. The request should include a description of changes to the required inspections that will ensure the continued operational safety of the airplane.

Costs of Compliance

We estimate that this proposed AD affects 2,557 airplanes of U.S. registry. We estimate the following costs to comply with this proposed AD:

Estimated Costs
Action | Labor cost | Parts cost | Cost per product | Cost on U.S. operators
Inspection and replacement Boeing 737 (1,440 airplanes) | Up to 6 work-hours × $85 per hour = Up to $510 | Up to $12,000 | Up to $12,510 | Up to $18,014,400.
Inspection and replacement Boeing 757 (675 airplanes) | Up to 9 work-hours × $85 per hour = Up to $765 | Up to $18,000 | Up to $18,765 | Up to $12,666,375.
Inspection and replacement Boeing 767 (442 airplanes) | Up to 9 work-hours × $85 per hour = Up to $765 | Up to $18,000 | Up to $18,765 | Up to $8,294,130.
Maintenance or inspection program revision (2,557 airplanes) | 1 work-hour × $85 per hour = $85 | $0 | $85 | $217,345.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2017-0127; Directorate Identifier 2016-NM-161-AD.

(a) Comments Due Date

We must receive comments by April 24, 2017.

(b) Affected ADs

None.

(c) Applicability

This AD applies to all The Boeing Company airplanes identified in paragraphs (c)(1), (c)(2), and (c)(3) of this AD, certificated in any category.

(1) Model 737-600, -700, -700C, -800, -900, and -900ER series airplanes.

(2) Model 757-200, -200PF, -200CB, and -300 series airplanes.

(3) Model 767-200, -300, -300F, and -400ER series airplanes.

(d) Subject

Air Transport Association (ATA) of America Code 28; Fuel.

(e) Unsafe Condition

This AD was prompted by reports of latently failed motor operated valve (MOV) actuators of the fuel shutoff valves. We are issuing this AD to prevent a latent failure of the actuator for the engine or auxiliary power unit (APU) fuel shutoff valves, which could result in the inability to shut off fuel to the engine or the APU, and in case of certain engine or APU fires, could result in structural failure.

(f) Compliance

Comply with this AD within the compliance times specified, unless already done.

(g) Inspection to Determine Part Number (P/N)

(1) For airplanes identified in paragraph (c)(1) of this AD: Within 8 years after the effective date of this AD, do an inspection to determine the part numbers of the MOV actuators of the fuel shutoff valves for the left and right engines, in accordance with the Accomplishment Instructions of Boeing Service Bulletin 737-28-1314, dated November 17, 2014. A review of airplane maintenance records is acceptable in lieu of this inspection if the part number of the MOV actuator at each location can be conclusively determined from that review.

(2) For airplanes identified in paragraphs (c)(2) and (c)(3) of this AD: Within 8 years after the effective date of this AD, do an inspection to determine the part numbers of the MOV actuators of the fuel shutoff valves for the left and right engines, and of the APU fuel shutoff valve, in accordance with the Accomplishment Instructions of Boeing Special Attention Service Bulletin 757-28-0138, dated May 18, 2016; or Boeing Service Bulletin 767-28-0115, Revision 1, dated June 2, 2016 (“SB 767-28-0115 R1”); as applicable. A review of airplane maintenance records is acceptable in lieu of this inspection if the part number of the MOV actuator at each location can be conclusively determined from that review.

(h) Replacement

(1) For airplanes identified in paragraph (c)(1) of this AD, if, during the inspection required by paragraph (g)(1) of this AD, any MOV actuator of the fuel shutoff valves for the left and right engines having P/N MA20A2027, or P/N MA30A1001 (Boeing P/N S343T003-56, or P/N S343T003-66), is found: Within 8 years after the effective date of this AD, replace each affected MOV actuator with an MOV actuator having P/N MA30A1017 (Boeing P/N S343T003-76), in accordance with the Accomplishment Instructions of Boeing Service Bulletin 737-28-1314, dated November 17, 2014.

Note 1 to paragraph (h)(1) of this AD: If, during the inspection required by paragraph (g)(1) of this AD, any MOV actuator of the fuel shutoff valve for the left or right engines having P/N MA20A1001-1 (Boeing P/N S343T003-39) is found, the Accomplishment Instructions specified in Boeing Service Bulletin 737-28-1314, dated November 17, 2014, for replacing MOV actuators having P/N S343T003-66 or P/N S343T003-56 can be used for replacing MOV actuators having P/N MA20A1001-1 (Boeing P/N S343T003-39).

(2) For airplanes identified in paragraph (c)(2) of this AD, if, during the inspection required by paragraph (g)(2) of this AD, any MOV actuator of the fuel shutoff valves for the left and right engines, or of the APU fuel shutoff valve having P/N MA20A2027, or P/N MA30A1001 (Boeing P/N S343T003-56 or P/N S343T003-66) is found: Within 8 years after the effective date of this AD, replace each affected MOV actuator with an MOV actuator having P/N MA30A1017 (Boeing P/N S343T003-76), in accordance with the Accomplishment Instructions of Boeing Special Attention Service Bulletin 757-28-0138, dated May 18, 2016.

Note 2 to paragraph (h)(2) of this AD: If, during the inspection required by paragraph (g)(2) of this AD, any MOV actuator of the fuel shutoff valve for the left or right engines, or of the APU fuel shutoff valve having P/N MA20A1001-1 (Boeing P/N S343T003-39) is found, the Accomplishment Instructions specified in Boeing Special Attention Service Bulletin 757-28-0138, dated May 18, 2016, for replacing MOV actuators having P/N S343T003-66 or P/N S343T003-56 can be used for replacing MOV actuators having P/N MA20A1001-1 (Boeing P/N S343T003-39).

(3) For airplanes identified in paragraph (c)(3) of this AD, if, during the inspection required by paragraph (g)(2) of this AD, any MOV actuator of the fuel shutoff valves for the left and right engines, or of the APU fuel shutoff valve having P/N MA20A2027 or P/N MA30A1001 (Boeing P/N S343T003-56 or P/N S343T003-66) is found: Within 8 years after the effective date of this AD, replace each affected MOV actuator with an MOV actuator having P/N MA30A1017 (Boeing P/N S343T003-76), in accordance with the Accomplishment Instructions of SB 767-28-0115 R1.

Note 3 to paragraph (h)(3) of this AD: If, during the inspection required by paragraph (g)(2) of this AD, any MOV actuator of the fuel shutoff valve for the left or right engines, or of the APU fuel shutoff valve having P/N MA20A1001-1 (Boeing P/N S343T003-39) is found, the Accomplishment Instructions specified in SB 767-28-0115 R1, for replacing MOV actuators having P/N S343T003-66 or P/N S343T003-56 can be used for replacing MOV actuators having P/N MA20A1001-1 (Boeing P/N S343T003-39).

(i) Maintenance or Inspection Program Revision

(1) For airplanes identified in paragraph (c)(1) of this AD with an original certificate of airworthiness or original export certificate of airworthiness issued on or before the effective date of this AD: Prior to or concurrently with the actions required by paragraph (h)(1) of this AD or within 30 days after the effective date of this AD, whichever is later, revise the maintenance or inspection program, as applicable, to add the airworthiness limitations (AWLs) specified in paragraphs (i)(1)(i), (i)(1)(ii), and (i)(1)(iii) of this AD. The initial compliance time for accomplishing the actions required by AWL No. 28-AWL-24 is within 6 years from the previous inspection.

(i) AWL No. 28-AWL-21, MOV Actuator—Lightning and Fault Current Protection Electrical Bond, as specified in Boeing 737-600/700/700C/800/900/900ER Special Compliance Items/Airworthiness Limitations, D626A001-9-04, dated September 2016.

(ii) AWL No. 28-AWL-22, MOV Actuator—Electrical Design Feature, as specified in Boeing 737-600/700/700C/800/900/900ER Special Compliance Items/Airworthiness Limitations, D626A001-9-04, dated September 2016.

(iii) AWL No. 28-AWL-24, Valve MOV Actuator—Lightning and Fault Current Protection Electrical Bond, as specified in Boeing 737-600/700/700C/800/900/900ER Special Compliance Items/Airworthiness Limitations, D626A001-9-04, dated September 2016.

(2) For airplanes identified in paragraph (c)(2) of this AD: Prior to or concurrently with the actions required by paragraph (h)(2) of this AD, revise the maintenance or inspection program, as applicable, to add the AWLs specified in paragraphs (i)(2)(i), (i)(2)(ii), and (i)(2)(iii) of this AD. The initial compliance time for accomplishing the actions required by AWL No. 28-AWL-25 is within 6 years from the previous inspection.

(i) AWL No. 28-AWL-23, Motor Operated Valve (MOV) Actuator—Lightning and Fault Current Protection Electrical Bond, as specified in Boeing 757 Maintenance Planning Data (MPD) Document, Section 9, Airworthiness Limitations (AWLs) And Certification Maintenance Requirements (CMRs), D622N001-9, dated July 2016.

(ii) AWL No. 28-AWL-24, Motor Operated Valve (MOV) Actuator—Electrical Design Feature, as specified in Boeing 757 Maintenance Planning Data (MPD) Document, Section 9, Airworthiness Limitations (AWLs) And Certification Maintenance Requirements (CMRs), D622N001-9, dated July 2016.

(iii) AWL No. 28-AWL-25, Motor Operated Valve (MOV) Actuator—Lightning and Fault Current Protection Electrical Bond, as specified in Boeing 757 Maintenance Planning Data (MPD) Document, Section 9, Airworthiness Limitations (AWLs) And Certification Maintenance Requirements (CMRs), D622N001-9, dated July 2016.

(3) For airplanes identified in paragraph (c)(3) of this AD with an original certificate of airworthiness or original export certificate of airworthiness issued on or before the effective date of this AD: Prior to or concurrently with the actions required by paragraph (h)(3) of this AD, revise the maintenance or inspection program, as applicable, to add the AWLs specified in paragraphs (i)(3)(i) and (i)(3)(ii) of this AD.

(i) AWL No. 28-AWL-23, Motor Operated Valve (MOV) Actuator—Lightning and Fault Current Protection Electrical Bond, as specified in Boeing 767 Special Compliance Items/Airworthiness Limitations, D622T001-9-04, dated June 2016.

(ii) AWL No. 28-AWL-24, Motor Operated Valve (MOV) Actuator—Electrical Design Feature, as specified in Boeing 767 Special Compliance Items/Airworthiness Limitations, D622T001-9-04, dated June 2016.

(j) Parts Installation Prohibition

As of the effective date of this AD, no person may replace a MOV actuator having P/N MA30A1017 (Boeing P/N S343T003-76) with an MOV actuator having P/N MA20A2027 or P/N MA30A1001 (Boeing P/N S343T003-56 or P/N S343T003-66) for the fuel shutoff valves for airplanes identified in paragraphs (c)(1), (c)(2), and (c)(3) of this AD, and for the APU fuel shutoff valve for airplanes identified in paragraphs (c)(2) and (c)(3) of this AD.

(k) Credit for Previous Actions

(1) This paragraph provides credit for the actions specified in paragraph (g)(2) or (h)(3) of this AD, as applicable, if those actions were performed before the effective date of this AD using Boeing Service Bulletin 767-28-0115, dated September 10, 2015.

(2) For airplanes identified in paragraph (c)(1) of this AD with an original certificate of airworthiness or original export certificate of airworthiness issued on or before the effective date of this AD, this paragraph provides credit for the actions specified in paragraph (i)(1) of this AD if those actions were performed before the effective date of this AD using Boeing 737-600/700/700C/800/900/900ER Special Compliance Items/Airworthiness Limitations, D626A001-9-04, dated July 2016; or Boeing 737-600/700/700C/800/900/900ER Maintenance Planning Data (MPD) Document, Section 9, Airworthiness Limitations (AWLs), and Certification Maintenance Requirements (CMRs), D626A001-CMR, Revision April 2016; Revision January 2015; Revision November 2014; or Revision October 2014.

(3) For airplanes identified in paragraph (c)(2) of this AD, this paragraph provides credit for the actions specified in paragraph (i)(2) of this AD if those actions were performed before the effective date of this AD using Boeing 757 Maintenance Planning Data (MPD) Document, Section 9, Airworthiness Limitations (AWLs), and Certification Maintenance Requirements (CMRs), D622N001-9, Revision January 2016.

(4) For airplanes identified in paragraph (c)(3) of this AD with an original certificate of airworthiness or original export certificate of airworthiness issued on or before the effective date of this AD, this paragraph provides credit for the actions specified in paragraph (i)(3) of this AD if those actions were performed before the effective date of this AD using Boeing 767 Special Compliance Items/Airworthiness Limitations, D622T001-9-04, Revision May 2016 R1; Revision May 2016; Revision March 2016; or Revision July 2015.

(5) For airplanes identified in paragraph (c)(3) of this AD with an original certificate of airworthiness or original export certificate of airworthiness issued on or before the effective date of this AD, this paragraph provides credit for the actions specified in paragraph (i)(3)(ii) of this AD if those actions were performed before the effective date of this AD using Boeing 767 Special Compliance Items/Airworthiness Limitations, D622T001-9-04, Revision October 2014.

(l) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (m)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO, to make those findings. To be approved, the repair method, modification deviation, or alteration deviation must meet the certification basis of the airplane, and the approval must specifically refer to this AD.

(4) For service information that contains steps that are labeled as Required for Compliance (RC), the provisions of paragraphs (l)(4)(i) and (l)(4)(ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(m) Related Information

(1) For more information about this AD, contact Tak Kobayashi, Aerospace Engineer, Propulsion Branch, ANM-140S, FAA, Seattle ACO, 1601 Lind Avenue SW., Renton, WA 98057-3356; phone: 425-917-6499; fax: 425-917-6590; email: Takahisa.Kobayashi@faa.gov.

(2) For service information identified in this AD, contact Boeing Commercial Airplanes, Attention: Contractual & Data Services (C&DS), 2600 Westminster Blvd., MC 110-SK57, Seal Beach, CA 90740-5600; telephone: 562-797-1717; Internet: https://www.myboeingfleet.com. You may view this referenced service information at the FAA, Transport Airplane Directorate, 1601 Lind Avenue SW., Renton, WA. For information on the availability of this material at the FAA, call 425-227-1221.

Issued in Renton, Washington, on February 28, 2017.
Michael Kaszycki,
Acting Manager, Transport Airplane Directorate, Aircraft Certification Service.

[FR Doc. 2017-04561 Filed 3-8-17; 8:45 am]

BILLING CODE 4910-13-P